DEPARTMENT OF THE INTERIOR

Fish and Wildlife Service

[FWS-R2-R-2010-N209; 20131-1265-2CCP S3]

Caddo National Wildlife Refuge, Harrison County, TX; Comprehensive Conservation Plan and Environmental Assessment

AGENCY: Fish and Wildlife Service, Interior.

ACTION: Notice of intent; request for comments.

SUMMARY: We, the U.S. Fish and Wildlife Service (Service), intend to prepare a comprehensive conservation plan (CCP) and environmental assessment (EA) for Caddo Lake National Wildlife Refuge, Harrison County, TX. We provide this notice in compliance with our CCP policy to advise other Federal and State agencies, Tribes, and the public of our intentions, and to obtain suggestions and information on the scope of issues to consider in the planning process.

DATES: To ensure consideration, please send your written comments by May 18, 2011. We will announce opportunities for public input in local news media throughout the CCP process.

ADDRESSES: Send your comments or requests for more information by any of the following methods.

E-mail: Jeffrey_missal@fws.gov. Include “Caddo Lake National Wildlife Refuge CCP NOI” in the subject line of the message.

Fax: Attn: Jeffrey Missal, Natural Resource Planner, 505-248-7409.

U.S. Mail: Jeffrey Missal, Natural Resource Planner, P.O. Box 1306, Albuquerque, NM 87103-1306.

In-Person Drop-off: You may drop off comments during regular business hours at the Refuge Headquarters located at 15600 Highway 134, Karnack, TX 75661.

FOR FURTHER INFORMATION CONTACT: Jeffrey Missal, Natural Resource Planner, Telephone: 505-248-7409; Fax: 505-248-6803; e-mail: Jeffrey_missal@fws.gov.

SUPPLEMENTARY INFORMATION:

Introduction

With this notice, we initiate our process for developing a CCP for Caddo Lake NWR (Refuge), located in Harrison County, TX. This notice complies with our CCP policy to (1) advise other Federal and State agencies, Tribes, and the public of our intention to conduct detailed planning on this Refuge, and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide Refuge Managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act, as amended.

Each unit of the National Wildlife Refuge System was established for specific purposes. We use these purposes as the foundation for developing and prioritizing the management goals and objectives for each refuge within the National Wildlife Refuge System mission, and to determine how the public can use each refuge. The planning process is a way for us and the public to evaluate management goals and objectives that will ensure the best possible approach to wildlife, plant, and habitat conservation, while providing for wildlife-dependent recreation opportunities that are compatible with each refuge's establishing purposes and the mission of the National Wildlife Refuge System.

Our CCP process provides participation opportunities for Tribal, State, and local governments; agencies; organizations; and the public. At this time we encourage input in the form of issues, concerns, ideas, and suggestions for the future management of Caddo Lake NWR.

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

Caddo Lake National Wildlife Refuge

Caddo Lake National Wildlife Refuge is located in Harrison County, TX, and encompasses approximately 7,500 acres of Piney Woods, mature Baldcyprus Forests, and wetlands. On October 19, 2000, the Director of the U.S. Fish and Wildlife Service approved the establishment of the Caddo Lake National Wildlife Refuge on portions of the Longhorn Army Ammunition Plant. It was officially opened as a national wildlife refuge on September 26, 2009, for the purpose of migratory bird and other fish and wildlife management, conservation, and protection.

In contrast to the more arid and thinly wooded areas that predominate much of the rest of Texas, Caddo Lake NWR is one of the richest examples of the lush and abundant Piney Woods Belt, where rainfall is plentiful and rivers and bayous twist through forests teeming with a great diversity of aquatic and terrestrial plant specimens. Portions of the Refuge and Caddo Lake constitute one of only 25 such areas in the United States recognized by the RAMSAR Convention on Wetlands as a Wetland of International Significance. Residing in these forests and wetlands associated with the Refuge are a variety of birds, amphibians, reptiles, and fish. A number of animals and plants here are considered rare, threatened, or endangered under national and international laws; these species include, but are not limited to, the peregrine falcon, the alligator snapping turtle, and the eastern big-eared bat.

Scoping: Preliminary Issues, Concerns, and Opportunities

We have identified preliminary issues, concerns, and opportunities that we may address in the CCP. We have briefly summarized these issues below. During public scoping, we may identify additional issues.

Ecoregional Issues

• Potential impacts of climate change

Habitat Issues

• Bottomland Hardwood habitat maintenance and restoration

• Timber harvesting

• Using fire on the landscape for habitat restoration and maintenance

• Property transfer from the Department of the Army and subsequent contaminant issues

Wildlife Issues

• Migratory waterfowl and neotropical migrants using the Refuge as a stopover and/or nesting site

• Refuge hunts for population management of White-tailed Deer

• Construction/maintenance of bat, wood duck, and bluebird boxes for nesting purposes

Public Use Opportunities and Access

• Identification, construction, and maintenance of wildlife observation trail(s) and auto-tour loop(s)

• Develop/Increase participation of Caddo Lake NWR friends group

Facilities

• Remodel or replace current Refuge headquarters (currently an old U.S. Army office building)

• Identify location and construct Refuge Fire Station Facilities (currently co-located in the Refuge shop and bunkhouse)

• Identify location and construct Refuge Visitor Center and Classroom Building (currently located in an old FEMA Trailer)

Public Meetings

We will give the public an opportunity to provide input at a public meeting (or meetings). You can obtain the schedule from the planning team leader or project leader (see addresses). You may also send comments anytime during the planning process by U.S. mail, e-mail, or fax (see ADDRESSES). There will be additional opportunities to provide public input once we have prepared a draft CCP.

Public Availability of Comments

Before including your address, phone number, e-mail address, or other personal identifying information in your comment, you should be aware that your entire comment, including your personal identifying information, may be made publicly available at any time. While you can ask us in your comment to withhold your personal identifying information from public review, we cannot guarantee that we will be able to do so.

Dated: September 30, 2010.
Joy E. Nicholopoulos,
Regional Director, U.S. Fish and Wildlife Service, Region 2.

[FR Doc. 2010-29111 Filed 11-18-10; 8:45 am]

BILLING CODE 4310-55-P